DEPARTMENT OF AGRICULTURE

Natural Resources Conservation Service

Notice of Proposed Changes to Section IV of the Field Office Technical Guide (FOTG) of the Natural Resources Conservation Service in Michigan

AGENCY: Natural Resources Conservation Service (NRCS) in Michigan, U.S. Department of Agriculture.

ACTION: Notice of availability of proposed changes in NRCS-Michigan FOTG, Section IV for review and comment.

SUMMARY: It is the intention of NRCS in Michigan to issue revised conservation practice standards in Section IV of the FOTG. The revised standards include:

Surface Drainage, Main or Lateral (608)

Dike (356)

Aquaculture Ponds (397)

Irrigation Storage Reservoir (436)

Irrigation System, Surface and Subsurface (443)

Land Smoothing (466)

Obstruction Removal (500)

Surface Drainage, Field Ditch (607)

Clearing and Snagging (326)

Agrichemical Containment Facility (702)

DATES: Comments will be received on or before January 2, 2004.

FOR FURTHER INFORMATION CONTACT: Inquire in writing to Kevin Wickey, Assistant State Conservationist-Technology, Natural Resources Conservation Service, 3001 Coolidge Road, Suite 250, East Lansing, MI 48823. Copies of these standards will be made available upon written request. You may submit electronic requests and comments to Kevin.Wickey@mi.usda.gov.

FOR FURTHER INFORMATION CONTACT: Kevin Wickey (517) 324-5279.

SUPPLEMENTARY INFORMATION: Section 393 of the Federal Agriculture Improvement and Reform Act of 1996 states that revisions made after enactment of the law, to NRCS state technical guides used to carry out highly erodible land and wetland provisions of the law, shall be made available for public review and comment. For the next 30 days, the NRCS in Michigan will receive comments relative to the proposed changes. Following that period, a determination will be made by the NRCS in Michigan regarding disposition of those comments and a final determination of change will be made.

Dated: November 18, 2003.
Ronald C. Williams,
State Conservationist, East Lansing, Michigan.

[FR Doc. 03-30000 Filed 12-1-03; 8:45 am]

BILLING CODE 3410-16-P